DEPARTMENT OF COMMERCE

International Trade Administration

[C-570-980]

Crystalline Silicon Photovoltaic Cells, Whether or Not Assembled Into Modules, From the People's Republic of China: Final Results of the Expedited First Sunset Review of the Countervailing Duty Order

AGENCY: International Trade Administration, Department of Commerce.

SUMMARY: The Department of Commerce (Commerce) finds that revocation of the countervailing duty (CVD) order on crystalline silicone photovoltaic (CSPV) cells, whether or not assembled into modules, from the People's Republic of China (China) would be likely to lead to continuation or recurrence of a countervailable subsidy at the levels indicated in the “Final Results of Sunset Review” section of this notice.

DATES: Applicable March 9, 2018.

FOR FURTHER INFORMATION CONTACT: Caitlin Monks, AD/CVD Operations, Office VII, Enforcement and Compliance, International Trade Administration, U.S. Department of Commerce, 1401 Constitution Avenue NW, Washington, DC 20230; telephone (202) 482-2670.

SUPPLEMENTARY INFORMATION:

Background

On December 7, 2012, Commerce published the CVD order on CSPV cells from China.¹ On November 1, 2017, Commerce published a notice of initiation of the first sunset review of the Order, pursuant to section 751(c)(2) of the Tariff Act of 1930, as amended (the Act).² On November 13, 2017, SolarWorld Americas, Inc. (SolarWorld or the petitioner) filed a notice of intent to participate in the review within the deadline specified in 19 CFR 351.218(d)(1)(i).³ SolarWorld claimed interested party status pursuant to section 771(9)(C) of the Act, as a manufacturer of CSPV cells and modules in the United States.

¹ See Crystalline Silicon Photovoltaic Cells, Whether or Not Assembled into Modules, from the People's Republic of China: Countervailing Duty Order, 77 FR 73017 (December 7, 2012) (Order).

² See Initiation of Five-Year (Sunset) Reviews, 82 FR 50612 (November 1, 2017).

³ See Petitioner's Letter, “Notice of Intent to Participate in Sunset Review,” dated November 13, 2017, (Crystalline Silicon Photovoltaic Cells, Whether or Not Assembled into Modules, from the People's Republic of China: Notice of Intent to Participate in Sunset Review).

Commerce received an adequate substantive response from the domestic industry within the 30-day deadline specified in 19 CFR 351.218(d)(3)(i). Commerce did not receive a response from the Government of China (GOC), nor any other respondent interested party to the proceeding. As a result, pursuant to section 751(c)(3)(B) of the Act and 19 CFR 351.218(e)(l)(ii)(B)(2) and (C)(2), Commerce conducted an expedited review of the Order. The deadline for this sunset review was extended to March 5, 2018, as a result of the tolling of deadlines for the January 20-22, 2018, closure of the Federal Government.⁴

⁴ See Memorandum, “Deadlines Affected by the Shutdown of the Federal Government,” dated January 23, 2018.

Scope of the Order

The merchandise subject to the Order is crystalline silicon photovoltaic cells, whether or not assembled into modules, from China. Certain CSVP cells that are the subject of the Order are currently classifiable under subheadings 8501.61.0000, 8507.20.80, 8541.40.6020, 8541.40.6030, and 8501.31.8000 of the Harmonized Tariff Schedule of the United States (HTSUS). While HTSUS subheadings are provided for convenience and customs purposes, the written description is dispositive. The Issues and Decision Memorandum, which is hereby adopted by this notice, provides a full description of the scope of the Order.⁵

⁵ See Issues and Decision Memorandum dated concurrently with this Federal Register notice.

Analysis of Comments Received

All issues raised in this review are addressed in the accompanying Issues and Decision Memorandum. The issues include the likelihood of continuation or recurrence of a countervailable subsidy, the net countervailable subsidy rate likely to prevail if the Order were revoked, and the nature of the subsidies. The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed at http://enforcement.trade.gov/frn/. The signed Issues and Decision Memorandum and the electronic version of the Issues and Decision Memorandum are identical in content.

Final Results of Sunset Review

Pursuant to sections 752(b)(1) and (3) of the Act, we determine that revocation of the CVD order on CSPV from China would be likely to lead to continuation or recurrence of a net countervailable subsidy at the rates listed below:

Manufacturers/exporters/producers | Net countervailable subsidy rate (percent)
Suntech | 18.2
Trina | 19.41
All Others | 18.82

Notification Regarding Administrative Protective Order

This notice also serves as the only reminder to parties subject to an administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Commerce is issuing and publishing these final results and this notice in accordance with sections 751(c), 752(b), and 777(i)(1) of the Act and 19 CFR 351.218.

Dated: March 5, 2018.
Gary Taverman,
Deputy Assistant Secretary for Antidumping and Countervailing Duty Operations, performing the non-exclusive functions and duties of the Assistant Secretary for Enforcement and Compliance.

[FR Doc. 2018-04753 Filed 3-8-18; 8:45 am]

BILLING CODE 3510-DS-P